DEPARTMENT OF ENERGY

Federal Energy Regulatory Commission

[Docket No. RP07-391-001]

Central Kentucky Transmission Company; Notice of Compliance Filing

May 21, 2007.

Take notice that on May 15, 2007, Central Kentucky Transmission Company (Central Kentucky) tendered for filing as part of its FERC Gas Tariff, Original Volume No. 1, Substitute Third Revised Sheet No. 6, with a proposed effective date of April 1, 2007.

On April 2, 2007, Central Kentucky submitted a revised tariff sheet in accordance with Section 32 of its Tariff setting forth a retainage percentage reflecting the lost and unaccounted-for (LAUF) component of Columbia Gas Transmission Corporation's (Columbia) Transportation Retainage percentage. On April 30, the Commission accepted Central Kentucky's tariff filing, but directed that the effective date be changed from May 1, 2007 to April 1, 2007, “to accurately track Columbia's revised lost and unaccounted-for component in Docket No. RP07-335-000.” In compliance with the Commission's directive, Central Kentucky is submitting a revised tariff sheet that reflects an April 1, 2007 effective date for the revised retainage percentage.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-10184 Filed 5-25-07; 8:45 am]

BILLING CODE 6717-01-P